DEPARTMENT OF HOMELAND SECURITY

Coast Guard

33 CFR Part 165

[Docket No. USCG-2026-0072]

Safety Zone; Recurring Events in Captain of the Port Duluth Zone—Point to La Pointe Swim

AGENCY: Coast Guard, DHS.

ACTION: Notification of enforcement of regulation.

SUMMARY: The Coast Guard will enforce the safety zone for the Point to La Pointe Swim event in Bayfield, WI from 7:00 a.m. through noon on August 1, 2026. This action is necessary to protect participants and spectators during the event. Our regulation for marine events within the Captain of the Port Duluth Zone identifies the regulated area for this event. During the enforcement periods, the operator of any vessel in the regulated area must comply with directions from the Patrol Commander or any Official Patrol displaying a Coast Guard ensign.

DATES: The regulations in 33 CFR 165.943 will be enforced for Table 1, Event (H)(1) from 7:00 a.m. through noon on August 1, 2026.

FOR FURTHER INFORMATION CONTACT: If you have questions about this notification of enforcement, call or email LT Zachary Fedak, Marine Safety Unit Duluth, U.S. Coast Guard; telephone 218-522-0708, email Zachary.A.Fedak@uscg.mil.

SUPPLEMENTARY INFORMATION: The Coast Guard will enforce the safety zone for the annual Point to La Pointe Swim event in 33 CFR 165.943, Table 1, Event (H)(1), from 7:00 a.m. through noon on August 1, 2026, on all waters between Bayfield, WI and LaPointe, WI within a polygon formed by straight lines using the following coordinates: Starting Position 46°48′50″ N, 090°48′44″ W, moving southeast to 46°46′44″ N, 090°47′33″ W, then moving northeast to 46°46′52″ N, 090°47′17″ W, then moving northwest to 46°49′03″ N, 090°48′25″ W, and finally returning to the starting position. During the enforcement periods, as reflected in 33 CFR 165.943(a)(4), if you are the operator of a vessel in the regulated area you must comply with directions from the Patrol Commander or any Official Patrol displaying a Coast Guard ensign.

In addition to this notification of enforcement in the Federal Register, the Coast Guard plans to provide the maritime community with advance notification of this enforcement period via the Local Notice to Mariners and Broadcast Notice to Mariners. The Captain of the Port Duluth may be contacted via Channel 16, VFH-FM or at (218) 522-0708.

Dated: February 4, 2026.
J.P. Botti,
Commander, U.S. Coast Guard, Captain of the Port, Marine Safety Unit Duluth.

[FR Doc. 2026-02484 Filed 2-6-26; 8:45 am]

BILLING CODE 9110-04-P